DEPARTMENT OF TRANSPORTATION

Federal Aviation Administration

Notice of Availability, Notice of Public Comment Period, Notice of Public Meeting, and Request for Comment on the Draft Programmatic Environmental Assessment for the Shuttle Landing Facility Reentry Site Operator License

AGENCY: Federal Aviation Administration (FAA), Department of Transportation (DOT).

ACTION: Notice of availability, notice of public comment period, notice of public meeting, and request for comment.

SUMMARY: The FAA is announcing the availability of and requesting comments on the Draft PEA for the Shuttle Landing Facility (SLF) Reentry Site Operator License. The FAA has prepared the Draft PEA to evaluate the potential environmental impacts of the FAA issuing a Reentry Site Operator License to Space Florida for the operation of a commercial space reentry site at the SLF located at the Cape Canaveral Spaceport, which includes the Kennedy Space Center and the Cape Canaveral Air Force Station. A programmatic document is a type of general, broad National Environmental Policy Act (NEPA) review from which subsequent NEPA documents can be tiered, focusing on the issues specific to the subsequent action. If a commercial space operator applies to the FAA for a reentry license to conduct reentry operations at the SLF, a separate environmental document, tiering off the PEA, would be developed to support the issuance of a reentry license to the prospective reentry operator. The tiered environmental document would be a more detailed analysis based on vehicle specific operations.

DATES: Comments on the Draft PEA must be received on or before December 7, 2020.

The FAA will hold a virtual public meeting on December 2, 2020 from 5:00 to 7:00 p.m. EST. During this meeting, Space Florida will provide information on their proposed project, FAA will provide a licensing and PEA overview and members of the public can provide oral comments at the meeting. The FAA invites all interested parties to attend the meeting. Information for the meeting is posted on the FAA Office of Commercial Space Transportation website at: https://www.faa.gov/space/stakeholder_engagement/shuttle_landing_facility/.

ADDRESSES: Please submit comments or questions regarding the Draft PEA to Ms. Stacey Zee, SLF PEA, c/o ICF, 9300 Lee Highway, Fairfax, VA 22031 or by email to slfproject@icf.com.

FOR FURTHER INFORMATION CONTACT: Ms. Stacey Zee, Environmental Protection Specialist, Federal Aviation Administration, 800 Independence Avenue SW, Suite 325, Washington, DC 20591; email Stacey.Zee@faa.gov; phone 202-981-1437.

SUPPLEMENTARY INFORMATION: The FAA is the lead agency. The National Aeronautics and Space Administration, U.S. Space Force, U.S. Fish and Wildlife Service, and the National Park Service are cooperating agencies for the Programmatic Environmental Assessment (PEA) due to their special expertise and jurisdictions.

The FAA has prepared the Draft PEA in accordance with NEPA (42 U.S.C. 4321 et seq.), the Council on Environmental Quality Regulations for Implementing the Procedural Provisions of NEPA (40 CFR parts 1500-1508), and FAA Order 1050.1F, Environmental Impacts: Policies and Procedures, as part of its licensing process. Concurrent with the NEPA process and to determine the potential effects of the Proposed Action on historic and cultural properties, the FAA has initiated Section 106 Consultation with the Florida State Historic Preservation Office and the following Native American tribes: The Catawba Indian Nation, the Chitimacha Tribe of Louisiana, the Coushatta Tribe of Louisiana, the Eastern Band of Cherokee Indians, the Jena Band of Choctaw Indians, the Miccosukee Tribe of Indians of Florida, the Muscogee (Creek) Nation, the Poarch Band of Creek Indians, and the Seminole Tribe of Florida.

The FAA has prepared the Draft PEA to evaluate the potential environmental impacts of Space Florida's proposal to operate a reentry location for horizontally landed reentry vehicles at the SLF located at the Cape Canaveral Spaceport, which includes the Kennedy Space Center and the Cape Canaveral Air Force Station. The Draft PEA considers the potential environmental impacts of the Proposed Action and the No Action Alternative. A programmatic document is a type of general, broad NEPA review from which subsequent NEPA documents can be tiered, focusing on the issues specific to the subsequent action (40 CFR 1502.20). If a commercial space operator applies to the FAA for a reentry license to conduct reentry operations at the SLF, a separate environmental document, tiering off the PEA, would be developed to support the issuance of a reentry license to the prospective reentry operator. The tiered environmental document would be a more detailed analysis based on vehicle specific operations.

An electronic version of the Draft PEA is available on the FAA Office of Commercial Space Transportation website at: https://www.faa.gov/space/environmental/nepa_docs/slf_ea/.

The FAA encourages all interested agencies, organizations, Native American tribes, and members of the public to submit comments on the analysis presented in the Draft PEA by December 7, 2020. Comments should be as specific as possible and address the analysis of potential environmental impacts. Reviewers should organize their participation, so it is meaningful and makes the agency aware of the viewer's interests and concerns using quotations and other specific references to the text of the Draft PEA and related documents. Matters that could have been raised with specificity during the comment period on the Draft PEA may not be considered if they are raised for the first time later in the decision process. This comment procedure is intended to ensure that substantive comments and concerns are made available to the FAA in a timely manner so that the FAA has an opportunity to address them.

Before including your address, phone number, email address, or other personal identifying information in your comment, be advised that your entire comment—including your personal identifying information—may be made publicly available at any time. While you can ask us in your comment to withhold from the public review your personal identifying information, we cannot guarantee that we will be able to do so.

Issued in Washington, DC.
Daniel Murray,
Manager, Safety Authorization Division.

[FR Doc. 2020-25062 Filed 11-12-20; 8:45 am]

BILLING CODE 4910-13-P